DEPARTMENT OF VETERANS AFFAIRS

Advisory Committee on Women Veterans, Notice of Meeting

The Department of Veterans Affairs (VA) gives notice under the Federal Advisory Committee Act that the Advisory Committee on Women Veterans (Committee) will conduct a site visit on September 10-14, 2018, in Chicago, IL. Sessions are open to the public, except when the Committee is conducting tours of VA facilities, participating in off-site events, and participating in workgroup sessions. Tours of VA facilities are closed, to protect Veterans' privacy and personal information. The site visit will also include a town hall meeting for women Veterans and those who provide services to women Veterans.

The purpose of the Committee is to advise the Secretary of Veterans Affairs regarding the needs of women Veterans with respect to health care, rehabilitation, compensation, outreach, and other programs and activities administered by VA designed to meet such needs. The Committee makes recommendations to the Secretary regarding such programs and activities.

On Monday, September 10, the Committee will convene an open session at the Edward Hines Junior Hospital; 5000 5th Avenue Hines, IL 60141, from 8:30 a.m. to 3:00 p.m. in Room E471. The agenda will include overview briefings from the Edward Hines Junior Hospital leadership on the facilities, programs, demographics, women Veterans programs, and other services available for Veterans in Chicago. In the afternoon, the Committee will reconvene a closed session, as it tours the Edward Hines Junior Hospital.

In the morning of Tuesday, September 11, the Committee will convene an open session at Captain James A. Lovell Federal Health Care Center; 30001 Green Bay Road, North Chicago, IL 60064, from 8:30 a.m. to 3:00 p.m. The agenda will include overview briefings from the Captain James A. Lovell Federal Health Care Center leadership on the facilities, programs, demographics, women Veterans programs, and other services available for Veterans. In the afternoon, the Committee will reconvene a closed session, as it tours the Captain James A. Lovell Federal Health Care Center.

On Wednesday, September 12, the Committee will convene closed sessions, as it tours the Chicago Regional Benefits Office (2122 West Taylor Street Chicago, IL 60612) and the Abraham Lincoln National Cemetery (20953 West Hoff Road, Elwood, IL 60421).

On Thursday, September 13, the Committee will convene an open session at the Jesse Brown VA Medical Center; 820 South Damen Avenue, Chicago, IL 60612, from 8:30 a.m. to 3:00 p.m. in the Prescription Conference Room JB 2446B (2nd Floor, Damen Building). The agenda will include overview briefings from the Jesse Brown VA Medical Center leadership on the facilities, programs, demographics, women Veterans programs, and other services available for Veterans in Chicago. In the afternoon, the Committee will reconvene a closed session, as it tours the Jesse Brown VA Medical Center.

In the morning of Friday, September 14, the Committee will convene an open session at the Jesse Brown VA Medical Center; 820 South Damen Avenue, Chicago, IL 60612, from 8:00 a.m. to 9:00 a.m. in the Prescription Conference Room JB 2446B (2nd Floor, Damen Building), as it conducts an out-briefing with leadership from the Jesse Brown VA Medical Center / Edward Hines Junior Hospital / Captain James A. Lovell Federal Health Care Center / Chicago Regional Benefits Office / Abraham Lincoln National Cemetery. The Committee will reconvene an open session in the Prescription Conference Room JB 2446B (2nd Floor, Damen Building), as it participates in a town hall meeting with the women Veterans and other stakeholders. The town hall meeting will begin at 9:30 a.m. and end promptly at 11:00 a.m.

With the exception of the town hall meeting, there will be no time for public comment during the meeting. Members of the public may submit written statements for the Committee's review to 00W@mail.va.gov, or by fax at (202) 273-7092. Any member of the public and media wishing to attend or seeking additional information should contact Shannon L. Middleton at (202) 461-6193, or 00W@mail.va.gov.

Dated: August 23, 2018.
Jelessa M. Burney,
Federal Advisory Committee Management Officer.

[FR Doc. 2018-18626 Filed 8-27-18; 8:45 am]

BILLING CODE 8320-01-P